DEPARTMENT OF THE TREASURY

Bureau of Engraving and Printing

Privacy Act of 1974, as Amended; Systems of Records

AGENCY: Bureau of Engraving and Printing, Treasury.

ACTION: Alteration of a Privacy Act System of Records Notice.

SUMMARY: In accordance with the requirements of the Privacy Act of 1974, as amended, 5 U.S.C. 552a, the Bureau of Engraving and Printing (BEP) is publishing an alteration of its Privacy Act systems of records entitled “Treasury/BEP .006—Debt Files (Employees).”

DATES: Comments must be received no later than January 29, 2010. The new systems of records will be effective February 8, 2010 unless BEP receives comments that would result in a contrary determination.

ADDRESSES: Comments should be sent to Clifford Daly, Attorney-Advisor, Office of the Chief Counsel, Bureau of Engraving and Printing, Washington, DC 20228. Comments will be made available for inspection upon written request. The Department will make such comments available for public inspection and copying at BEP, Room 419-A, Bureau of Engraving and Printing, Washington, DC 20228, on official business days between the hours of 10 a.m. and 5 p.m. Eastern Time. You can make an appointment to inspect comments by telephoning 202-874-2500. All comments, including attachments and other supporting materials, received are part of the public record and subject to public disclosure. You should submit only information that you wish to make available publicly.

FOR FURTHER INFORMATION CONTACT: Clifford Daly, Attorney-Advisor, Office of the Chief Counsel, Bureau of Engraving and Printing, Washington, DC 20228 at 202-874-2630.

SUPPLEMENTARY INFORMATION: Pursuant to the Privacy Act of 1974 (5 U.S.C. 552a) and the Office of Management and Budget (OMB) Circular No. A-130, the Bureau of Engraving and Printing (BEP) completed a review of its Privacy Act system of records notice. As a result of the review BEP is proposing to add two new routine uses to BEP .006 to assist BEP to perform necessary functions such as (1) to maintain records about individuals who owe debt(s) to the United States, through one or more of its departments and agencies, and/or to individuals, including past due support enforced by states and (2) for the purpose of taking action to facilitate the collection and resolution of the debt(s) using various collection methods, including, but not limited to, offset, levy, administrative wage garnishment.

The proposed routine uses are as follows:

(1) These records may be used to disclose information to a court of competent jurisdiction, an authorized official or authorized state agency as defined in 5 CFR parts 581 and 582, or a party to a garnishment action, in response to legal process, including interrogatories, served on the Bureau of Engraving and Printing in connection with garnishment proceedings against a current or former employee, and

(2) These records may be used to provide information to private creditors for the purpose of garnishment of wages of an employee if a debt has been reduced to a judgment.

The report of the altered systems of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The system of records notice was last published in its entirety on June 29, 2009, at 74 FR 31092. The proposed alterations to “Treasury/BEP .006—Debt Files (Employees)” are set forth below.

Treasury/BEP .006

System Name:

Debt Files (Employees)—Treasury/BEP.

System Location:

Bureau of Engraving and Printing, 14th and C Streets, SW., Washington, DC 20228.

* * * * *

Routine Uses of Records Maintained in the System, Including Categories of Users and the Purposes of Such Uses:

* * *

Description of change: The period “.” at the end of routine use (9) is replaced with a semicolon “;”, and the following routines uses are added in numerical order at the end thereof:

“(10) Disclose information to a court of competent jurisdiction, an authorized official or authorized state agency as defined in 5 C.F.R. parts 581 and 582, or a party to a garnishment action, in response to legal process, including interrogatories, served on the Bureau of Engraving and Printing in connection with garnishment proceedings against a current or former employee;

“(11) These records may be used to provide information to private creditors for the purpose of garnishment of wages of an employee if a debt has been reduced to a judgment.”

* * * * *

Dated: December 17, 2009.
Melissa Hartman,
Acting Deputy Assistant Secretary for Privacy and Treasury Records.

[FR Doc. E9-30894 Filed 12-29-09; 8:45 am]

BILLING CODE 4810-39-P